DEPARTMENT OF ENERGY

Federal Energy Regulatory Commission

Combined Notice of Filings

Take notice that the Commission has received the following Natural Gas Pipeline Rate and Refund Report filings:

Filings Instituting Proceedings

Docket Numbers: RP12-398-000.

Applicants: Iberdrola Renewables, Inc., Iberdrola Energy Services LLC.

Description: Filed Date: 4/6/12.

Accession Number: 20120406-5080.

Comments Due: 5 p.m. ET 4/18/12.

Docket Numbers: RP12-591-000.

Applicants: Colorado Interstate Gas Company LLC.

Description: Non-Conforming TSA (PSCO) to be effective 5/1/20/12.

Filed Date: 4/5/12.

Accession Number: 20120405-5169.

Comments Due: 5 p.m. ET 4/17/12.

Docket Numbers: RP12-592-000.

Applicants: Questar Pipeline Company.

Description: Minimum Pressure Guarantee to be effective 5/10/2012.

Filed Date: 4/9/12.

Accession Number: 20120409-5069.

Comments Due: 5 p.m. ET 4/23/12.

Docket Numbers: RP12-593-000.

Applicants: TransColorado Gas Transmission Company LLC.

Description: Housekeeping Filing 2012-04-09 to be effective 5/9/2012.

Filed Date: 4/9/12.

Accession Number: 20120409-5075.

Comments Due: 5 p.m. ET 4/23/12.

Docket Numbers: RP12-594-000.

Applicants: Stingray Pipeline Company, L.L.C.

Description: Settlement to be effective 5/1/2012.

Filed Date: 4/9/12.

Accession Number: 20120409-5129.

Comments Due: 5 p.m. ET 4/23/12.

Docket Numbers: RP12-595-000.

Applicants: Colorado Interstate Gas Company LLC.

Description: EBB Notice Categories Filing to be effective 5/15/2012.

Filed Date: 4/9/12.

Accession Number: 20120409-5140.

Comments Due: 5 p.m. ET 4/23/12.

Docket Numbers: RP12-596-000.

Applicants: Cheyenne Plains Gas Pipeline Company, L. L.C.

Description: EBB Notice Categories Filing to be effective 5/15/2012.

Filed Date: 4/9/12.

Accession Number: 20120409-5147.

Comments Due: 5 p.m. ET 4/23/12.

Docket Numbers: RP12-597-000.

Applicants: Young Gas Storage Company, Ltd.

Description: EBB Notice Categories to be effective 5/15/2012.

Filed Date: 4/9/12.

Accession Number: 20120409-5153.

Comments Due: 5 p.m. ET 4/23/12.

Docket Numbers: RP12-598-000.

Applicants: Ruby Pipeline, L.L.C.

Description: EBB Notice Categories Filing to be effective 5/15/2012.

Filed Date: 4/9/12.

Accession Number: 20120409-5154.

Comments Due: 5 p.m. ET 4/23/12.

Docket Numbers: RP12-599-000.

Applicants: Wyoming Interstate Company, L.L.C.

Description: EBB Notice Categories Filing to be effective 5/15/2012.

Filed Date: 4/9/12.

Accession Number: 20120409-5155.

Comments Due: 5 p.m. ET 4/23/12.

Any person desiring to intervene or protest in any of the above proceedings must file in accordance with Rules 211 and 214 of the Commission's Regulations (18 CFR 385.211 and 385.214) on or before 5 p.m. Eastern time on the specified comment date. Protests may be considered, but intervention is necessary to become a party to the proceeding.

Filings in Existing Proceedings

Docket Numbers: RP12-517-001.

Applicants: Questar Pipeline Company.

Description: Statement of Negotiated Rates Version 4.1.0 to be effective 4/2/2012.

Filed Date: 4/9/12.

Accession Number: 20120409-5065.

Comments Due: 5 p.m. ET 4/23/12.

Any person desiring to protest in any the above proceedings must file in accordance with Rule 211 of the Commission's Regulations (18 CFR 385.211) on or before 5 p.m. Eastern time on the specified comment date.

The filings are accessible in the Commission's eLibrary system by clicking on the links or querying the docket number.

eFiling is encouraged. More detailed information relating to filing requirements, interventions, protests, and service can be found at: http://www.ferc.gov/docs-filing/efiling/filing-req.pdf. For other information, call (866) 208-3676 (toll free). For TTY, call (202) 502-8659.

Dated: April 10, 2012.
Nathaniel J. Davis, Sr.
Deputy Secretary

[FR Doc. 2012-9384 Filed 4-18-12; 8:45 am]

BILLING CODE 6717-01-P